DEPARTMENT OF ENERGY

Federal Energy Regulatory Commission

Notice of FERC Staff Attendance at Meeting of California Independent System Operator Corporation

August 13, 2004.

The Federal Energy Regulatory Commission hereby gives notice that members of its staff may attend the August 18, 2004 stakeholder meeting of the California Independent System Operator Corporation (CAISO) to discuss the development of trading hubs under the CAISO's proposed LMP market design. The CAISO will seek input on its proposed trading hub definitions.

The discussion may address matters at issue in the following proceedings:

Docket Nos. ER02-1656-000 and ER02-1656-019, California Independent System Operator Corporation.

Docket Nos. ER04-928-000 and ER04-928-001, California Independent System Operator Corporation.

Docket Nos. EL04-108-000 and EL04-108-001, Public Utilities Providing Service in California under Sellers' Choice Contracts.

The meeting will take place on August 18, 2004 and is expected to begin at approximately 10 a.m., PDT. The meeting will take place at the CAISO's facilities in Folsom, CA. The meeting is open to the public.

For more information, contact Matthew Deal, Office of Markets, Tariffs and Rates, Federal Energy Regulatory Commission at (202) 502-6363 or matthew.deal@ferc.gov.

Magalie R. Salas,
Secretary.

[FR Doc. E4-1874 Filed 8-19-04; 8:45 am]

BILLING CODE 6717-01-P